DEPARTMENT OF TRANSPORTATION

Federal Railroad Administration

[Docket No. FRA-2021-0006-N-6]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Request (ICR) abstracted below. Before submitting this ICR to the Office of Management and Budget (OMB) for approval, FRA is soliciting public comment on specific aspects of the activities identified in the ICR.

DATES: Interested persons are invited to submit comments on or before August 30, 2021.

ADDRESSES: Written comments and recommendations for the proposed ICR should be submitted on regulations.gov to the docket, Docket No. FRA 2021-0006. All comments received will be posted without change to the docket, including any personal information provided. Please refer to the assigned OMB control number in any correspondence submitted. FRA will summarize comments received in response to this notice in a subsequent notice and include them in its information collection submission to OMB for approval.

FOR FURTHER INFORMATION CONTACT: Ms. Hodan Wells, Information Collection Clearance Officer, at email: hodan.wells@dot.gov or telephone: (202) 493-0440.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) Reduce reporting burdens; (2) organize information collection requirements in a “user-friendly” format to improve the use of such information; and (3) accurately assess the resources expended to retrieve and produce information requested. See 44 U.S.C. 3501.

The summary below describes the ICR that FRA will submit for OMB clearance as the PRA requires:

Title: Hours of Service Regulations.

OMB Control Number: 2130-0005.

Abstract: FRA's hours of service recordkeeping regulations (49 CFR part 228), amended as mandated by the Rail Safety Improvement Act of 2008, include substantive hours of service requirements for train employees (i.e., locomotive engineers and conductors) providing commuter and intercity rail passenger transportation (e.g., maximum on-duty periods, minimum off-duty periods, and other limitations). The regulations also require railroads to evaluate passenger train employee work schedules for risk of employee fatigue and implement measures to mitigate the risk, and to submit to FRA for approval certain schedules and mitigation plans. Finally, the regulations include recordkeeping and reporting provisions requiring railroads to keep hours of service records, and report excessive service, for train employees, signal employees, and dispatching service employees on both freight and passenger railroads.

FRA uses the information collected to verify that railroads do not require or allow their employees to exceed maximum on-duty periods, and ensure that they abide by minimum off-duty periods, and adhere to other limitations in this regulation, to enhance rail safety and reduce the risk of accidents/incidents caused, or contributed to, by train employee fatigue.

Type of Request: Extension without change (with changes in estimates) of a currently approved collection.

Affected Public: Businesses (railroads and signal contractors).

Form(s): FRA F 6180.3.

Respondent Universe: 796 railroads, signal contractors and subcontractors.

Frequency of Submission: On occasion.

Reporting Burden:

CFR section ¹ | Respondent universe | Total annual responses | Average time per responses | Total annual burden hours | Total cost equivalent ²
228.11—Hours of duty records | 796 railroads/signal contractors & subcontractors | 17,448,669 (electronic records) + 918,351 (paper records) | 3 minutes (electronic records) + 8 minutes (paper records) | 994,880 | $77,043,507
228.17—Dispatchers record of train movements | 65 dispatch offices | 285,000 cumulative train-movement tracking | 1 hour | 285,000 | 22,070,400
228.19(g)-(h)—Monthly reports of excess service—Exception (FRA F 6180.3) | 796 railroads/signal contractors & subcontractors | 1,750 reports | 1 hour | 1,750 | 135,520
228.103/.107—Construction of employees' sleeping quarters—Petition request to FRA to allow construction near work areas | 796 railroads/signal contractors & subcontractors | 2 petition waivers | 24 hours | 48 | 3,717
228.207(b)—Training—Initial training—New employees and supervisors | 671 railroads | 250 training records | 2 minutes | 8 | 620
—(c) Refresher training—System audits for irregularities by railroads and contractors | 796 railroads/signal contractors & subcontractors | 796 audits and records | 2 hours | 1,592 | 123,284
228.407(a)—Analysis of work schedules—Railroads' analysis of one cycle of work schedules of employees engaged in commuter or intercity passenger transportation | 34 railroads | 3 analyses | 2 hours | 6 | 465
—(b) Submissions of certain work schedules and any fatigue mitigation plans and determinations of operational necessity or declarations | 34 railroads | 3 fatigue mitigation plans | 20 hours | 60 | 4,646
—(b) Submissions to FRA for review and approval | 34 railroads | 1 submission | 1 hour | 1 | 77
—(d) Analysis of certain later changes in work schedules—Analyses and mitigation plans—Resubmission to FRA for approval | 34 railroads | 1 analysis or plan | 1 hour | 1 | 9,647
228.411—Training programs on fatigue and related topics (e.g., rest, alertness, changes in rest cycles, etc.) | 34 railroads | 34 railroads | 2 hours | 68 | 5,266
—(e) Records of training on fatigue and related topics | 34 railroads | 5,539 records | 1 minute | 92 | 7,124
228.411(f)—Conditional exclusion—Written declaration to FRA by tourist, scenic, historic, or excursion railroads seeking exclusion | 83 railroads | 1 written declaration | 1 hour | 1 | 77
Totals ³ | 796 railroads/signal contractors & subcontractors | 18,660,400 responses | N/A | 1,283,507 | 99,404,352
¹ The current inventory exhibits a total burden of 3,421,290 hours while the total burden of this notice is 1,283,507 hours. FRA determined many of the estimates were initial estimates, outdated, or duplicates. Moreover, other estimates were not derived from PRA requirements, thus leading to the increased figures in the current inventory, which were decreased accordingly in this notice.
² The dollar equivalent cost is derived from the Surface Transportation Board's 2020 Full Year Wage A&B data series using the appropriate employee group hourly wage rate that includes a 75-percent overhead charge.
³ Totals may not add due to rounding.

Total Estimated Annual Responses: 18,660,400.

Total Estimated Annual Burden: 1,283,507 hours.

Total Estimated Annual Burden Hour Dollar Cost Equivalent: $99,404,352.

Under 44 U.S.C. 3507(a) and 5 CFR 1320.5(b) and 1320.8(b)(3)(vi), FRA informs all interested parties that a respondent is not required to respond to, conduct, or sponsor a collection of information that does not display a currently valid OMB control number.

Authority: 44 U.S.C. 3501-3520.

Brett A. Jortland,
Acting Chief Counsel.

[FR Doc. 2021-13787 Filed 6-28-21; 8:45 am]

BILLING CODE 4910-06-P